SMALL BUSINESS ADMINISTRATION

Public Federal Regulatory Enforcement Fairness Hearing; Region VII Regulatory Fairness Board

The Small Business Administration Region VII Regulatory Fairness Board and the SBA Office of the National Ombudsman will hold a Public Hearing on Monday, April 29, 2002 at 12:30 p.m. at the Wichita Area Chamber of Commerce, 350 W. Douglas, Wichita, Kansas 67202-2970, to receive comments and testimony from small business owners, small government entities, and small non-profit organizations concerning the regulatory enforcement and compliance actions taken by federal agencies.

Anyone wishing to attend or to make a presentation must contact Edgar Poindexter in writing or by fax, in order to be put on the agenda. Edgar Poindexter, U.S. Small Business Administration, Wichita District Office, 271 West Third Street North, Suite 2500, Wichita, KS 67202-1212, phone (316) 269-6631, fax (316) 269-6618, e-mail: edgar.poindexter@sba.gov

For more information, see our Web site at www.sba.gov/ombudsman.

Dated: March 29, 2002.
Michael L. Barrera,
National Ombudsman.

[FR Doc. 02-8459 Filed 4-8-02; 8:45 am]

BILLING CODE 8025-01-P